ENVIRONMENTAL PROTECTION AGENCY

40 CFR Part 62

[FRL-7511-5]

Approval and Promulgation of State Plans for Designated Facilities and Pollutants: Louisiana, New Mexico, Oklahoma and Bernalillo County, NM; Negative Declarations

AGENCY: Environmental Protection Agency (EPA).

ACTION: Proposed rule.

SUMMARY: EPA is proposing to approve negative declarations submitted by the States of Louisiana, New Mexico, Oklahoma, and the City of Albuquerque (Bernalillo County), New Mexico, which certify that there are no existing small municipal waste combustion units in Louisiana, New Mexico, and Oklahoma subject to the requirements of sections 111(d) and 129 of the Clean Air Act (CAA). EPA is also proposing to approve negative declarations submitted by the State of New Mexico and the City of Albuquerque (Bernalillo County) which certify that there are no existing hospital/medical/infectious waste incinerators subject to the requirements of sections 111(d) and 129 of the CAA. In addition, EPA is proposing to approve a negative declaration submitted by the City of Albuquerque (Bernalillo County) which certifies that there are no existing large municipal waste combustion units subject to the requirements of sections 111(d) and 129 of the CAA. Finally, EPA is proposing to approve a negative declaration submitted by the State of New Mexico which certifies that there are no existing commercial and industrial solid waste incineration units subject to the requirements of sections 111(d) and 129 of the CAA.

DATES: Written comments must be received by July 14, 2003.

ADDRESSES: Written comments should be addressed to Mr. Thomas H. Diggs, Chief, Air Planning Section (6PD-L), at the EPA Region 6 Office listed below. Copies of documents relevant to this action are available for public inspection during normal business hours at the following location. Anyone wanting to examine these documents should make an appointment with the EPA Region 6 Office.

Environmental Protection Agency, 1445 Ross Avenue, Suite 700, Dallas, Texas 75202-2733.

FOR FURTHER INFORMATION CONTACT: Mr. Kenneth W. Boyce, Air Planning Section (6PD-L), Multimedia Planning and Permitting Division, U.S. EPA, Region 6, 1445 Ross Avenue, Dallas, Texas 75202, (214) 665-7259.

SUPPLEMENTARY INFORMATION: In the “Rules and Regulations” section of this Federal Register, EPA is approving the submittals as a direct final rule without prior proposal because EPA views this as a noncontroversial revision and anticipates no adverse comment. The EPA has explained its reasons for this approval in the preamble to the direct final rule. If EPA receives no relevant adverse comment, EPA will not take further action on this proposed rule. If EPA receives relevant adverse comment, EPA will withdraw the direct final rule and it will not take effect. The EPA will address all public comments in a subsequent final rule based on this proposed rule. The EPA will not institute a second comment period on this action. Any parties interested in commenting must do so at this time. Please note that if EPA receives adverse comment on an amendment, paragraph, or section of this rule and if that provision may be severed from the remainder of the rule, EPA may adopt as final those provisions of the rule that are not the subject of an adverse comment.

For additional information, see the direct final rule located in the “Rules and Regulations” section of this Federal Register.

Authority: 42 U.S.C. 7401 et seq.

Dated: May 16, 2003.
Lawrence E. Starfield,
Deputy Regional Administrator, Region 6.

[FR Doc. 03-15008 Filed 6-12-03; 8:45 am]

BILLING CODE 6560-50-P